ENVIRONMENTAL PROTECTION AGENCY

[FRL-6975-7]

National Drinking Water Advisory Council, Arsenic Cost Working Group, Request for Nominations

AGENCY: Environmental Protection Agency (EPA).

ACTION: Notice; request for nominations to the Arsenic Cost Working Group of the National Drinking Water Advisory Council.

SUMMARY: The U.S. Environmental Protection Agency (EPA) is announcing the formation of an Arsenic Cost Working Group of the National Drinking Water Advisory Council and soliciting nominations to this working group. The Advisory Council was established to provide practical and independent advice, consultation, and recommendations to the Agency on the activities, functions, and policies related to the implementation of the Safe Drinking Water Act as amended.

Any interested person or organization may nominate qualified individuals for membership on the working group. Nominees should be identified by name, occupation, position, address and telephone number. To be considered, all nominations must include a current resume providing the nominee's background, experience and qualifications.

Following the January 22, 2001 Federal Register promulgation of the arsenic rule, a number of concerns were raised to EPA by States, public water systems, and other stakeholders regarding the adequacy of science and the basis for national cost estimates underlying the rule. Because of the importance of the arsenic rule and the national debate surrounding it related to science and costs, EPA's Administrator publicly announced on March 20, 2001, that the Agency would take additional steps to reassess the scientific and cost issues associated with this rule and seek further public input on each of these important issues.

Consistent with that commitment, EPA will work with the National Drinking Water Advisory Council (NDWAC) to convene a panel of nationally recognized technical experts to review the cost of compliance estimates associated with the final arsenic in drinking water rule.

The criteria for selecting working group members and for conducting the review are that working group members are recognized experts in their fields; that working group members are as impartial and objective as possible; that working group members represent an array of backgrounds and perspectives (within their disciplines); that the working group members are available to participate fully in the review, which will be conducted over a relatively short time frame (i.e., within approximately 3-4 months); and that the results of the review be made publicly available for comment. Working group members will be asked to attend a series of meetings (approximately three) over the course of 3-4 months, participate in the discussion of key issues and assumptions at these meetings, and review and finalize the products and outputs of the working group. The working group will make a recommendation to the full NDWAC. The NDWAC will, in turn, make a recommendation to EPA.

Nominations should be submitted to Janet Pawlukiewicz, Designated Federal Officer, National Drinking Water Advisory Council, U.S. Environmental Protection Agency, Office of Ground Water and Drinking Water (4601), 1200 Pennsylvania Avenue, NW Washington, D.C. 20460, no later than May 14, 2001. The Agency will not formally acknowledge or respond to nominations.

FOR FURTHER INFORMATION CONTACT: Janet Pawlukiewicz at pawlukiewicz.janet@epa.gov or call (202) 260-9194.

Dated: May 2, 2001.
Cynthia C. Dougherty,
Director, Office of Ground Water and Drinking Water.

[FR Doc. 01-11423 Filed 5-3-01; 8:45 am]

BILLING CODE 6560-50-P